DEPARTMENT OF TRANSPORTATION

Pipeline and Hazardous Materials Safety Administration

[Docket No. PHMSA-2018-0055; Notice No. 2018-10]

Hazardous Materials: Revisions to the Emergency Response Guidebook

AGENCY: Pipeline and Hazardous Materials Safety Administration (PHMSA), Department of Transportation (DOT).

ACTION: Notice; request for information.

SUMMARY: The Pipeline and Hazardous Materials Safety Administration (PHMSA) is soliciting input on ways to improve the Emergency Response Guidebook (ERG) as it develops the 2020 edition (ERG2020). PHMSA is particularly interested in input from emergency services personnel who have experience using the ERG to respond to hazardous materials transportation incidents.

ADDRESSES: An email address has been established for interested persons to submit their input: ERGComments@dot.gov.

FOR FURTHER INFORMATION CONTACT: Stephen Martinez, Outreach, Engagement and Grants Division (PHH-50), Pipeline and Hazardous Materials Safety Administration (PHMSA), 1200 New Jersey Avenue SE, Washington, DC 20590-0001. Telephone number: (202) 366-4900, email: stephen.martinez@dot.gov.

SUPPLEMENTARY INFORMATION:

Paperwork Reduction Act:

The collection of this information has been approved under OMB Control Number 2105-0573, “Generic Clearance for the Collection of Qualitative Feedback on Agency Service Delivery.” PHMSA estimates the total burden from this collection to be:

Number of Respondents: 148.

Number of Responses: 148.

Number of Burden Hours: 12.

Burden Cost: 151.

A. Background and Purpose

The Federal hazardous materials transportation law, 49 U.S.C. 5101 et seq., authorizes the Secretary of Transportation (Secretary) to issue and enforce regulations deemed necessary to ensure the safe transportation of hazardous materials in commerce. In addition, the law directs the Secretary to provide law enforcement and fire-fighting personnel with technical information and advice for responding to emergencies involving the transportation of hazardous materials.

The Pipeline and Hazardous Materials Safety Administration (PHMSA) developed the United States version of the Emergency Response Guidebook (ERG) for use by emergency services personnel to provide guidance for initial response to hazardous materials transportation incidents. Since 1980, it has been PHMSA's goal that all public emergency response personnel (e.g., fire-fighting, police, and rescue squads) have immediate access to the ERG. To date and without charge, PHMSA has distributed more than 14.5 million copies of the ERG to emergency service agencies and developed free online resources and downloadable mobile applications to make the ERG more accessible. Since 1996, PHMSA, Transport Canada, and the Secretariat of Communication and Transport of Mexico have developed the ERG as a joint effort, with the assistance of interested parties from government and industry, including Argentina's Chemical Information Center for Emergencies (CIQUIME). ERG2020 will be published in English, French, and Spanish.

Publication of ERG2020 will increase public safety by providing consistent emergency response procedures for hazardous materials transportation incidents in North America. To continually improve the ERG, PHMSA is publishing this notice to inform interested parties of an open-ended method to relate their experiences using the ERG and recommendations on how it could be modified or improved. If PHMSA receives comments that it cannot feasibly consider prior to the publication of ERG2020, then such comments will be considered for subsequent versions of the ERG.

In addition to this notice, PHMSA will publicize its interest in receiving input on ERG2020 through future announcements to emergency responder associations, during training and education seminars, and during activities with State and local government agencies. PHMSA has established an email address for interested persons to submit their input (see ADDRESSES).

B. Emergency Response Guidebook Questions

To assist in the gathering of information, PHMSA solicits input from ERG users on experiences using, and concerns with, the 2012 and 2016 editions. We are interested in any comments stakeholders and users wish to provide, but are particularly looking for answers to the following questions:

1. How can we make the ERG more user-friendly for first responders during the initial response phase of a hazardous materials transportation incident? Please provide examples.

2. Does ERG2016 effectively emphasize the most useful information for the initial response phase?

3. Have you encountered conflicting or ambiguous guidance messages when using the ERG and other sources of technical information?

4. Are there ways we could improve the White Pages? For example:

• Did you find the “How to Use this Guidebook” flow chart on page 1 of ERG2016 useful in understanding how to use the ERG? Please explain why or why not.

• Do you believe we should reformat the tables, charts, and the information they provide (i.e., Table of Placards, Rail Identification Chart, and Road Trailer Identification Chart)? What changes do you think would make them more useful, clear, and easy to read and use?

• What other identification charts should we add, if any? What other subject(s) should we address?

• How could we improve the information the ERG provides on chemical, biological, and radiological transportation incidents? Can you suggest information to include or remove?

• Do you find the terms in the Glossary appropriate and current? What terms should we add? What terms should we remove or change?

5. In ERG2016's Yellow or Blue Pages, have you found any identification number and/or material name that seems to be assigned to an incorrect Guide number? If so, please note the identification number, material name, the Guide number, and suggest a new Guide number with your reasons why.

6. Do the Orange Guide Pages contain recommendations and responses that are appropriate to the material they are assigned to? If not, please explain and recommend a correction.

7. How could we change/improve the introduction and description of the Green Pages, or any of the following tables?

• Table 1—“Initial Isolation and Protective Action Distances”

• Table 2—“Water Reactive Materials Which Produce Toxic Gases”

• Table 3—“Initial Isolation and Protective Action Distances for Different Quantities of Six Common TIH Gases”

8. When calling any of the Emergency Response Telephone Numbers listed in ERG2016, have you experienced a busy telephone line, disconnection, or no response? If so, please describe.

9. What format(s) of the ERG do you use (hardcopy, electronic, online, mobile applications, etc.), and why?

10. How often do you use the ERG in a dangerous goods transportation emergency?

In addition to the specific questions listed in this notice, PHMSA is also interested in any supporting data and analyses that will enhance the value of the comments submitted.

Issued in Washington, DC, on May 10, 2018.
William S. Schoonover,
Associate Administrator for Hazardous Materials Safety, Pipeline and Hazardous Materials Safety Administration.

[FR Doc. 2018-11055 Filed 5-22-18; 8:45 am]

BILLING CODE 4910-60-P